DEPARTMENT OF TRANSPORTATION

Federal Aviation Administration

RTCA, INC.; “Government/Industry Certification Steering Committee;” Notice of Government/Industry Certification Steering Committee Meeting To Be Held March 17, 2000; Cancellation

AGENCY: Federal Aviation Administration.

ACTION: Cancellation.

SUMMARY: The Government/Industry Certification Steering Committee meeting scheduled to be held on March 17, 2000, announced in a notice published on page 11828 in the second column in the issue of March 6, 2000, volume 65, number 44, has been cancelled due to unforeseen circumstances. The meeting will be rescheduled. An announcement containing further details of the rescheduled meeting will be published within the next few days.

Issued in Washington, DC, on March 16, 2000.
Janice L. Peters,
Designated Official.

[FR Doc. 00-6971 Filed 3-16-00; 4:33 pm]

BILLING CODE 4810-13-M